DEPARTMENT OF JUSTICE

Antitrust Division

Notice Pursuant to the National Cooperative Research and Production Act of 1993—Joint Task-Force Networked Media

Notice is hereby given that, on June 18, 2014, pursuant to Section 6(a) of the National Cooperative Research and Production Act of 1993, 15 U.S.C. 4301 et seq. (“the Act”), Joint Task-Force Networked Media (“JT-NM”) has filed written notifications simultaneously with the Attorney General and the Federal Trade Commission disclosing changes in its membership. The notifications were filed for the purpose of invoking the Act's provisions limiting the recovery of antitrust plaintiffs to actual damages under specified circumstances. Specifically, AJA Video, Grass Valley, CA; Aperi, Camarillo, CA; Artel Video Systems, Westford, MA; b-com, Geveze, FRANCE; Beck Associates, Cedar Grove, NJ; Broadcom, Santa Cruz, CA; BT Media and Broadcast, London, UNITED KINGDOM; Huawei, Shenzhen, PEOPLE'S REPUBLIC OF CHINA; Huffman Technical Services, Middletown, NJ; Letterboxes, London, UNITED KINGDOM; Mesclado, Languedoc Roussillon, FRANCE; metaFrontier.jp, Tokyo, JAPAN; National TeleConsultants, Inc., New York, NY; Perspective Media Group, Los Angeles, CA; RGB Spectrum, El Dorado Hills, CA; SDNsquare-NV, Ghent, BELGIUM; TeloSalliance, Lancaster, PA, have been added as parties to this venture.

No other changes have been made in either the membership or planned activity of the group research project. Membership in this group research project remains open, and JT-NM intends to file additional written notifications disclosing all changes in membership.

On July 10, 2013, JT-NM filed its original notification pursuant to Section 6(a) of the Act. The Department of Justice published a notice in the Federal Register pursuant to Section 6(b) of the Act on August 15, 2013 (78 FR 49768).

The last notification was filed with the Department on February 6, 2014. A notice was published in the Federal Register pursuant to Section 6(b) of the Act on March 4, 2014 (79 FR 12224).

Patricia A. Brink,
Director of Civil Enforcement, Antitrust Division.

[FR Doc. 2014-17362 Filed 7-22-14; 8:45 am]

BILLING CODE 4410-11-P